DEPARTMENT OF COMMERCE

Foreign-Trade Zones Board

[S-35-2021]

Approval of Subzone Status; All Ways Pacific LLC, Dayton, New Jersey

On March 2, 2021, the Executive Secretary of the Foreign-Trade Zones (FTZ) Board docketed an application submitted by the State of New Jersey Department of State, grantee of FTZ 44, requesting subzone status subject to the existing activation limit of FTZ 44, on behalf of All Ways Pacific LLC, in Dayton, New Jersey.

The application was processed in accordance with the FTZ Act and Regulations, including notice in the Federal Register inviting public comment (86 FR 13282, March 8, 2021). The FTZ staff examiner reviewed the application and determined that it meets the criteria for approval. Pursuant to the authority delegated to the FTZ Board Executive Secretary (15 CFR 400.36(f)), the application to establish Subzone 44O was approved on April 18, 2022, subject to the FTZ Act and the Board's regulations, including Section 400.13, and further subject to FTZ 44's 407.5-acre activation limit.

Dated: April 18, 2022.
Andrew McGilvray,
Executive Secretary.

[FR Doc. 2022-08528 Filed 4-20-22; 8:45 am]

BILLING CODE 3510-DS-P